DEPARTMENT OF AGRICULTURE

Forest Service

Shoshone National Forest, Wyoming, Revised Land and Resource Management Plan

AGENCY: Forest Service, USDA.

ACTION: Notice of initiation to revise the Shoshone National Forest Land and Resource Management Plan.

SUMMARY: The Forest Service will revise the Land and Resource Management Plan (hereafter referred to as the Forest Plan) for the Shoshone National Forest. This notice describes documents available for review and how to obtain them; summarizes the need to change the Forest Plan; provides information concerning public participation; and includes the names and addresses of agency officials who can provide additional information.

DATES: To be most beneficial to the planning process your comments on need for change should be submitted by October 21, 2005.

ADDRESSES: Send written comments to Forest Plan Revision, Shoshone National Forest, 808 Meadow Lane Avenue, Cody, WY 82414-4549. E-mail address: shoshone_forestplan@fs.fed.us.

FOR FURTHER INFORMATION CONTACT: Bryan Armel at (307) 578-1234, or Susan Douglas at (307) 578-1214, or e-mail shoshone_forestplan@fs.fed.us.

SUPPLEMENTARY INFORMATION:

Documents Available for Review

Two documents are available for review to assist the public in commenting on the need for change. The Forest Plan Comprehensive Evaluation Report, Version 1.0, describes the current social, economic, and ecological conditions and trends for management of the Shoshone National Forest. The Need for Change Evaluation report, Version 1.0, describes the results of public input on need for change. The document has four sections. The first section discusses the preliminary need for change. The document has four sections. The first section discusses the preliminary need for change topics that were suggested. The second section identifies topics that do not require a change in current management direction, but need to be updated in the revised plan. The third section identifies a number of topics that need to be considered during the process of developing the revised forest plan. The fourth section identifies those topics that were suggested but will not be addressed in the plan revision. The Need for Change Evaluation report includes items identified by the public. Forest Service personnel, and local governments in May, June, and July. The documents are available at http://www.fs.fed.us/r2/shoshone/projects/planning/revision_index.shtml or by request.

Need for Change Evaluation

From discussions internally and with the public, the forest planning team identified a set of preliminary need for change questions. More information on these items and other comments are documented in the Need for Change Evaluation report. After further need for change discussions with the public through October, the Forest Supervisor will decide what need for change items will be addressed in the forest plan revision.

Preliminary Need for Change Topics

1. How should hazardous fuels, fire use, fire, and wildland urban interface areas be managed?

2. How should the spread of invasive plants be managed?

3. What areas of the Forest are suitable for the extraction of leasable, locatable, and salable minerals?

4. What special uses are suitable for the Forest, and how should they be managed?

5. What types of recreation opportunities should the Forest provide? In what areas are the opportunities suitable?

6. What areas of the Forest should have roaded access to fulfill the needs of Forest users and managers?

7. What management direction is appropriate for roadless areas and other special areas? What rivers, streams, or segments of rivers or streams are eligible for Wild and Scenic Rivers designation? What roadless areas should be recommended for wilderness designation?

8. What areas of the Forest are suitable for timber harvest? What timber harvest methods should be available? What types of timber products should be available?

9. What vegetation conditions and types of habitats should the Forest provide? What management direction, if any, should be included in the revised plan for large scale insect infestations?

10. What management direction should the plan contain for contributing to sustainable populations of native fish and wildlife species on the Forest?

11. Should the acres designated suitable for domestic livestock grazing be reevaluated?

12. Should management direction specific to highway corridors be included in the revised forest plan? If yes, what is the direction?

13. Should the direction in the current Forest plan for increasing water yield be retained?

Comment Requested

The Forest Service is seeking information and comments from individuals, organizations, Native American Tribes, and Federal, State, and local governments and agencies on the need for change in Forest Plan direction. The Forest Service is asking for comment on the topics identified in the Need for Change Evaluation report and for other topics that individuals, organizations, tribes, and governments and agencies feel should be addressed during the revision process. If you submitted comments previously and feel they are addressed in the Need for Change Evaluation report, you do not need to resubmit your comments.

Planning Process Schedule

The revision process for the Shoshone National Forest officially begins in September 2005 with the publication of this notice of initiation in theFederal Register. A draft revised forest plan will be published in April 2007. The final revised forest plan will be issued for pre-decisional review in April 2008. Final plan approval is planned for September 2008.

Responsible Official

Rebecca Aus, Shoshone National Forest Supervisor at 808 Meadow Lane Ave, Cody, WY 82414-4549.

Public Participation

The revision process is designed to provide opportunities for public collaboration and open participation in the development of the revised forest plan. Additional information on the process, the documents being produced, and public opportunities to participate can be found on the Shoshone National Forest's planning Web site at http://www.fs.fed.us/r2/shoshone/projects/planning/revision/revision_index.shtml.

(Authority: 36 CFR part 219)

Dated: September 13, 2005.
Rebecca Aus,
Forest Supervisor.

[FR Doc. 05-18689 Filed 9-19-05; 8:45 am]

BILLING CODE 3410-11-M